DEPARTMENT OF THE INTERIOR

Bureau of Land Management

[CA-190.50-1610-DO]

Notice of Intent To Prepare an Amendment to the Hollister Resource Management Plan and Environmental Impact Statement for the Fort Ord Public Lands Project in Monterey County, CA

AGENCY: Bureau of Land Management.

ACTION: Notice of Intent to Prepare an Amendment to the Hollister Resource Management Plan (RMP) and Environmental Impact Statement (EIS) for the Fort Ord Public Lands Project in Monterey County, California.

SUMMARY: This document provides notice that the Bureau of Land Management (BLM) intends to prepare an amendment to the Hollister RMP for the Fort Ord Public Lands Project. Fort Ord is the site of a former United States military base in Monterey County, California that was closed pursuant to the Defense Base Closure and Realignment Act of 1990, Public Law 101-510. Since 1992, the BLM has worked with the community in Monterey County to help facilitate the reuse of the former Fort Ord military base. The plan amendment would incorporate management prescriptions for the Fort Ord Project within the broader framework of the Hollister RMP. The plan amendment will fulfill the needs and obligations set forth by the National Environmental Policy Act (NEPA), the Federal Land Policy and Management Act (FLPMA), and BLM management policies. The BLM will work collaboratively with interested parties to identify the management decisions that are best suited to local, regional, and national needs and concerns. The public scoping process will identify planning issues and develop planning criteria.

DATES: This notice initiates the public scoping process. Comments on issues and planning criteria can be submitted in writing to the address listed below and will be accepted for 60 days following the publication of this notice in the Federal Register.

Public Participation: Public meetings will be held throughout the plan scoping and preparation period. In order to ensure local community participation and input, open houses will be held in locations most closely affiliated with the BLM lands at Fort Ord. Probable locations include Monterey/Pacific Grove, Salinas, and Seaside/Marina. Information concerning the planning process, including any public participation opportunities, will be announced by BLM through news releases, direct mailings or other applicable means of public notification. Current information about the Fort Ord planning process is also maintained on BLM's Web site (http://www.ca.blm.gov/hollister).

ADDRESSES: Scoping comments should be sent to Eric Morgan, Project Manager, Bureau of Land Management, Hollister Field Office, 20 Hamilton Court, Hollister, California, 95023; Fax 831.394.8346. BLM will maintain a record of public documents related to the development of the RMP Amendment at the Hollister Field Office at the address listed above. Comments, including names and street addresses of respondents, will be available for public review at the Hollister Field Office located in Hollister, California during regular business hours, 7:30 a.m. to 4 p.m., Monday through Friday, excluding federal holidays, and may be published as part of the EIS. Individual respondents may request confidentiality. Individuals who wish to withhold their name or street address from public review or from disclosure under the Freedom of Information Act must state this prominently at the beginning of their written comment. Such requests will be honored to the extent allowed by law. All submissions from organizations and businesses, and from individuals identifying themselves as representatives or officials of organizations or businesses, will be available for public inspection in their entirety.

FOR FURTHER INFORMATION CONTACT: For further information and/or to have your name added to our mailing list, contact Eric Morgan, telephone (831) 394-8314 or E-Mail emorgan@ca.blm.gov.

SUPPLEMENTARY INFORMATION: A plan amendment is needed because the existing 1984 Hollister RMP does not address management of the Fort Ord Project area. Approximately 7,200 acres of former Army lands at Fort Ord were transferred to the BLM in October 1996, and approximately 8,000 additional acres are expected to be transferred to the BLM in the coming years. The new “public lands” transferred to the BLM are part of a base-wide mitigation strategy to assure the survival of numerous rare plants and animals. Reuse of the base is centered upon the three keystones of “Education, Economics and Environment (The Three E's)”. BLM's management of these new public lands is currently governed by the BLM/Army Memorandum of Understanding (April 19, 1995), the U.S. Army Letter of Transfer (October 18, 1996), and the Fort Ord Multi-Species Habitat Management Plan. Preliminary issues and management concerns have been identified by BLM personnel, other agencies, and in meetings with individuals and user groups, including: management and protection of sensitive, rare, threatened or endangered species; fire management; management integration with other agencies; management of recreation/visitor use and safety; management of livestock grazing; management consistent with community; and access and transportation on the public lands. Disciplines involved in the planning process will include specialists with expertise in wildlife management, minerals and geology, outdoor recreation, archaeology, lands and realty, botany, soils, information technology, sociology, and economics.

Eric Morgan,
Fort Ord Project Manager.

[FR Doc. 03-9366 Filed 4-16-03; 8:45 am]

BILLING CODE 4310-40-P